DEPARTMENT OF VETERANS AFFAIRS

[OMB Control No. 2900-0061]

Agency Information Collection Activity Under OMB Review: Request and Authorization for Supplies and Direct Reimbursement (Chapter 31—Veteran Readiness and Employment)

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0061.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0061” in any correspondence.

SUPPLEMENTARY INFORMATION:

Authority: 38 U.S.C. 501(a) and 38 U.S.C. 3104(a)(7).

Title: Request and Authorization for Supplies and Direct Reimbursement (Chapter 31-Veteran Readiness and Employment).

OMB Control Number: 2900-0061.

Type of Review: Revision of a currently approved collection.

Abstract: VA Form 28-1905m, Request and Authorization for Supplies and Direct Reimbursement (Chapter 31-Veteran Readiness and Employment) serves as a request supplies or equipment or apply for direct reimbursement for purchases of supplies and equipment as part of a rehabilitation program under 38 U.S.C. chapter 31. The training facility the Veteran attends, or the employer for whom the Veteran works, may also need to complete the form when the facility or employer requires specific types of supplies or equipment. Veterans may access the VAF 28-1905m from VA.gov or requesting the form from their assigned Vocational Rehabilitation Counselor (VRC). Veterans may return the completed VAF 28-1905m through centralized mail, via VR&E's Electronic Virtual Assistant (e-VA), in-person, or emailing the form to their assigned VRC. There are no other invitations or other communications sent to the respondent associated with the information collection. The VR&E staff subsequently uses the information on this form to approve the purchase of appropriate supplies and equipment or direct reimbursement for purchases of supplies and equipment for Veterans as part of a rehabilitation program. VAF 28-1905m allows Veterans in the VR&E program to receive supplies and equipment or be directly reimbursed for purchases of supplies and equipment that are necessary for the successful completion of their rehabilitation program.

An agency may not conduct or sponsor, and a person is not required to respond to a collection of information unless it displays a currently valid OMB control number. The Federal Register Notice with a 60-day comment period soliciting comments on this collection of information was published at 89 FR 11946 on Thursday, February, 15, 2024, Page(s) 11946.

Affected Public: Individuals or Households.

Estimated Annual Burden: 15,312 hours

Estimated Average Burden per Respondent: 30 minutes.

Frequency of Response: One time.

Estimated Number of Respondents: 30,623 per year.

By direction of the Secretary.
Maribel Aponte,
VA PRA Clearance Officer, Office of Enterprise and Integration, Data Governance Analytics, Department of Veterans Affairs.

[FR Doc. 2024-08295 Filed 4-17-24; 8:45 am]

BILLING CODE 8320-01-P